DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-032. Applicant: State University of New York, Stony Brook. Instrument: Mass Spectrometer, Model JEM-2200FS. Manufacturer: JEOL Ltd., Japan. Intended Use: The instrument is intended to be used to directly observe atoms in crystalline materials, to perform quantitative imaging and electron diffraction experiments, to obtain detailed structural information from biological samples and to characterize and understand the crystallographic atomic and electronic structure of various technologically important materials.Application accepted by Commissioner of Customs: July 20, 2005.

Docket Number: 05-034. Applicant: The University of Southern Mississippi, 118 College Drive, #5104, Hattiesburg, MS 39406-0001. Instrument: Electron Microscope, Model JEM-2100. Manufacturer: JEOL Ltd., Japan. Intended Use: The instrument is intended to be used for analyzing polymers, composites, and biological materials. Objectives of studies will include practices which will prove successful in demonstrating the importance and usefulness of electron microscopy in polymer and biological research and education of students. It will also be used widely in courses. Application accepted by Commissioner of Customs: July 27, 2005.

Docket Number: 05-035. Applicant: Princeton University, P.O. BOX 33, 2 New South Building, Princeton, NJ 08544. Instrument: Geiger Mode Ionizing Counters. Manufacturer: pol.hi.tech, Italy. Intended Use: The instrument is intended to be used for conducting the “BaBar” experiment at the Stanford Linear Accelerator Center to detect penetrating ionizing particles emanating from decaying B mesons, to study all the systematics of B meson decay processes. The detectors will be installed at the Accelerator Center and will become an integral part of the experiment (which involves the participation of over 500 scientists, worldwide) until its conclusion. The main objective is to study the puzzling phenomenon of CP violation, the only known difference in behavior of matter and antimatter. Application accepted by Commissioner of Customs: August 2, 2005.

Docket Number: 05-036. Applicant: Areas Global TB Vaccine Foundation. Instrument: CyFlow ML Flow Cytometer, Model 16 parameter - 4 light sources. Manufacturer: Partec, GmbH, Germany. Intended Use: The instrument is intended to be used to investigate subsets of human and animal cells for special characteristics as cytokine production using human PMBC samples from clinical vaccination trials and cells from animal studies.

Research will focus on:

1. Intracellular flow cytometry analysis of special subsets of cells to antigen-stimulation specific cytokine production

2. Develop clinical endpoint assay to assess effects of new vaccines.

3. Establish SOPs, validate the assay and train personnel.

4. Develop new flow-based assays for the assessment of dendritic cells.

Application accepted by Commissioner of Customs: August 3, 2005.

Gerald A. Zerdy,
Program Manager Statutory Import Programs Staff.

[FR Doc. E5-4492 Filed 8-16-05; 8:45 am]

BILLING CODE 3510-DS-S